DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 26, 2012. Address written comments to Statutory Import Programs Staff, Room 3720, U.S. Department of Commerce, Washington, DC 20230. Applications may be examined between 8:30 a.m. and 5:00 p.m. at the U.S. Department of Commerce in Room 3720.

Docket Number: 12-047. Applicant: Columbia University, 500 West 20th St., Suite 200, New York, NY 10027. Instrument: Electron Microscope. Manufacturer: FEI Co., Czech Republic. Intended Use: The instrument will be used to obtain bright-field and dark-field images of materials microstructures, to do high resolution lattice imaging, to obtain diffraction patterns to identify crystalline phases, to determine what elements are in a particular phase using the energy dispersive spectrometer, and to obtain atomic number contrast, or Z-contrast, images using the high angle annular dark field detector. The materials to be studied include metal, ceramics, semiconductors, and nanostructured materials and nanoparticles. Justification for Duty-Free Entry: There are no instruments of the same general category manufactured in the United States. Application accepted by Commissioner of Customs: October 15, 2012.

Docket Number: 12-052. Applicant: Stanford University, 450 Sierra Mall, Stanford, CA 94305. Instrument: Electron Microscope. Manufacturer: FEI Co., the Netherlands. Intended Use: The instrument will be used for “spectrum imaging” of elemental distributions at the sub-nano level, to gather three-dimensional structural information of nano-sized crystals as well as to measure electrostatic and magnetic fields in a variety of samples. Justification for Duty-Free Entry: There are no instruments of the same general category manufactured in the United States. Application accepted by Commissioner of Customs: November 2, 2012.

Docket Number: 12-059. Applicant: Stanford University, 450 Sierra Mall, Stanford, CA 94305. Instrument: Electron Microscope. Manufacturer: FEI Co., the Netherlands. Intended Use: The instrument will be used to fabricate plasmonic structures that can trap sub-5-nm nanoparticles, create nanoparticles to advance state of the art cancer diagnosis, fabricate arrays of micro-Barkhausen Kurz vacuum THz oscillators on silicon wafers, develop organic solar cells with higher efficiency and organic transistors with higher mobility, create nanoscale probes to study the electrical behavior of the heart and brain, and attempt to measure persistent currents in topological insulators with SQUID magnetometers to confirm the existence of an edge state, to test models of the edge state, and to elucidate the mechanisms that break the persistent currents. Justification for Duty-Free Entry: There are no instruments of the same general category manufactured in the United States. Application accepted by Commissioner of Customs: November 9, 2012.

Dated: November 30, 2012.
Gregory W. Campbell,
Director of Subsidies Enforcement, Import Administration.

[FR Doc. 2012-29539 Filed 12-5-12; 8:45 am]

BILLING CODE 3510-DS-P